SECURITIES AND EXCHANGE COMMISSION

[File No. 500-1]

Medient Studios, Inc., TISO; Order of Suspension of Trading

June 25, 2014.

It appears to the Securities and Exchange Commission that there is a lack of current and accurate information concerning the securities of Medient Studios, Inc. (“Medient”), because of questions regarding the accuracy and adequacy of publicly available information about the company, including, among other things, its total shares outstanding and its operations. Medient's stock is quoted on OTC Link, operated by OTC Markets Group, Inc., under the ticker: MDNT.

The Commission is of the opinion that the public interest and the protection of investors require a suspension of trading in the securities of the above-listed company.

Therefore, it is ordered, pursuant to Section 12(k) of the Securities Exchange Act of 1934, that trading in the securities of the above-listed company is suspended for the period from 9:30 a.m. EDT on June 25, 2014, through 11:59 p.m. EDT on July 9, 2014.

By the Commission.
Kevin M. O'Neill,
Deputy Secretary.

[FR Doc. 2014-15228 Filed 6-25-14; 11:15 am]

BILLING CODE 8011-01-P